DEPARTMENT OF JUSTICE

Notice of Lodging of Proposed Consent Decree Under the Clean Water Act

On March 5, 2014, the Department of Justice lodged a proposed consent decree with the United States District Court for the Southern District of West Virginia in a lawsuit entitled United States, et al. v. Alpha Natural Resources, Inc., et al., Civil Action No. 2:14-cv-11609.

The proposed Consent Decree will resolve Clean Water Act claims alleged in this action by the United States, the State of West Virginia, the Pennsylvania Department of Environmental Protection, and the Commonwealth of Kentucky against Alpha Natural Resources, Inc. and 59 of its subsidiaries ¹ (collectively, “Alpha”) for the discharge of pollutants into state waters and waters of the United States in violation of limits in National Pollutant Discharge Elimination System (“NPDES”) permits. The Consent Decree will also resolve claims against Alpha Natural Resources, Inc. and Cumberland Coal Resources, LP for discharging pollutants into state waters and waters of the United States without complying with the requirements for obtaining an NPDES permit.

¹ Alpha Natural Resources, Inc.; Alpha Appalachia Holdings, Inc.; Alex Energy, Inc.; Alpha PA Coal Terminal, LLC; Amfire Mining Company, LLC; Aracoma Coal Co., Inc.; Bandmill Coal Corp.; Belfry Coal Corp.; Big Bear Mining Co.; Brooks Run Mining Company, LLC; Brooks Run South Mining LLC; Clear Fork Coal Co.; Cumberland Coal Resources, LP; Delbarton Mining Co.; Dickenson-Russell Coal Company, LLC; Duchess Coal Co.; Eagle Energy, Inc.; Elk Run Coal Co., Inc.; Emerald Coal Resources, LP; Enterprise Mining Company, LLC; Goals Coal Co.; Greyeagle Coal Co.; Harlan Reclamation Services LLC; Herndon Processing Co., LLC; Highland Mining Co.; Independence Coal Company, Inc.; Jacks Branch Coal Co.; Kanawha Energy Co.; Kepler Processing Co., LLC; Kingston Mining, Inc.; Kingwood Mining Co., LLC; Knox Creek Coal Corp.; Litwar Processing Co., LLC; Marfork Coal Co.; Martin County Coal Corp.; New Ridge Mining Co.; Omar Mining Co.; Paramont Coal Company Virginia, LLC; Paynter Branch Mining, Inc.; Peerless Eagle Coal Co.; Performance Coal Co.; Peter Cave Mining; Pigeon Creek Processing Corp.; Pioneer Fuel Corp.; Power Mountain Coal Co.; Premium Energy, LLC; Rawl Sales & Processing Co.; Resource Land Co.; Riverside Energy Co., LLC; Road Fork Development Co.; Rockspring Development, Inc.; Rum Creek Coal Sales, Inc.; Sidney Coal Co.; Spartan Mining Co.; Stirrat Coal Co.; Sycamore Fuels Inc.; Tennessee Consolidated Coal Company; Trace Creek Coal Co.; and Twin Star Mining, Inc.

Under the proposed Consent Decree, Defendants will perform injunctive relief including: (1) Development and implementation of an environmental management system and periodic internal and third-party environmental compliance auditing; (2) data tracking and evaluation measures, including centralized audit and violations databases to track information relevant to compliance efforts at each outfall; (3) response measures for effluent limit violations, including consultation with a third-party expert and automatic stipulated penalties; (4) construction and operation of a specified treatment system to address violations of osmotic pressure permit limits; and (5) implementation of compliance plans, including water management or treatment approaches, to address violations of selenium permit limits. In addition, Alpha will pay a civil penalty of $27.5 million.

The publication of this notice opens a period for public comment on the proposed consent decree. Comments should be addressed to the Assistant Attorney General, Environment and Natural Resources Division, and should refer to United States, et al. v. Alpha Natural Resources, Inc., et al., D.J. Reference No. 90-5-1-1-08470/1. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611/

During the public comment period, the proposed consent decree may be examined and downloaded at this Justice Department Web site: http://www.justice.gov/enrd/Consent_Decrees.html.

We will provide a paper copy of the proposed consent decree upon written request and payment of reproduction costs. Please mail your request and payment to: Consent Decree Library, U.S. DOJ—ENRD, P.O. Box 7611, Washington, DC 20044-7611.

Please enclose a check or money order for $29.25 (25 cents per page reproduction costs) payable to the United States Treasury. For a paper copy without the exhibits and signature pages, the cost is $22.00.

Maureen Katz,
Assistant Section Chief, Environmental Enforcement Section, Environment & Natural Resources Division.

[FR Doc. 2014-05149 Filed 3-10-14; 8:45 am]

BILLING CODE 4410-CW-P